DEPARTMENT OF TRANSPORTATION

Office of the Secretary

49 CFR Part 40

[Docket DOT-OST-2008-0088]

RIN OST 2105-AD84

Procedures for Transportation Workplace Drug and Alcohol Testing Programs

Correction

In rule document 2010-3731 beginning on page 8528 in the issue of Thursday, February 25, 2010, make the following corrections:

§40.225 [Corrected]

1. On page 8529, in §40.225, in the first column, amendatory instructions 2 and 3 are corrected to read as follows:

2. Section 40.225 (a) is amended by removing the words “beginning February 1, 2002”.

3. Appendix G is revised to read as follows:

Appendix G to Part 40 [Corrected]

2. On page 8530 and 8531, in Appendix G to Part 40, the graphics are reprinted to read as follows:

[FR Doc. C1-2010-3731 Filed 3-17-10; 8:45 am]

BILLING CODE 1301-00-D